DEPARTMENT OF ENERGY

Federal Energy Regulatory Commission

[Docket No. CP11-132-000]

Gulf South Pipeline Company, LP; Notice of Application

Take notice that on March 9, 2011, Gulf South Pipeline Company, LP (Gulf South), 9 Greenway Plaza, Suite 2800, Houston, Texas 77046, filed in Docket No. CP11-132-000 an application pursuant to section 7(b) of the Natural Gas Act (NGA) for permission and approval to abandon by sale to Boardwalk Field Services, LLC (Field Services) the Pettus Lateral Facilities in Bee and Refugio Counties, Texas, all as more fully set forth in the application which is on file with the Commission and open to public inspection.¹ The filing may also be viewed on the web at http://www.ferc.gov using the “eLibrary” link. Enter the docket number excluding the last three digits in the docket number field to access the document. For assistance, contact FERC at FERCOnlineSupport@ferc.gov or call toll-free, (886) 208-3676 or TYY, (202) 502-8659.

¹ Both Gulf South and Field Services are subsidiaries of Boardwalk Pipeline Partners, LP.

Gulf South proposes to abandon by sale the 40-mile long, 18-inch diameter Pettus Lateral and associated laterals and gathering systems with related meters, receipt taps, and other associated facilities located in Bee and Refugio Counties, to Field Services. Gulf South states that the Pettus Lateral Facilities have a capacity of approximately 27,000 Dekatherms per day (D/th) of natural gas; however, production has declined and the current line usage is approximately four percent of capacity. Gulf South further states that Field Services would use the facilities to transport high Btu-content shale gas being developed in the Eagle Ford shale formation in South Texas. Gulf South also states that its proposed abandonment would not have an adverse effect on Gulf South's current shippers.

Any questions regarding this application should be directed to M. L. Gutierrez, Director, Regulatory Affairs, Gulf South Pipeline Company, LP, 9 Greenway Plaza, Suite 2800, Houston, Texas 77046, or by telephone (713) 215-4015, facsimile (713) 479-1745, or e-mail to Nell.Gutierrez@bwpmlp.com.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

Comment Date: April 7, 2011

Dated: March 17, 2011.
Kimberly D. Bose,
Secretary.

[FR Doc. 2011-7989 Filed 4-4-11; 8:45 am]

BILLING CODE 6717-01-P